DEPARTMENT OF ENERGY

Federal Energy Regulatory Commission

[Project No. 12449-014]

Wiscons8, LLC; IOWAter Power Corporation; Notice of Application for Transfer of License and Soliciting Comments, Motions To Intervene, and Protests

On December 30, 2019, Wiscons8, LLC (transferor) and IOWAter Power Corporation (transferee) filed an application for the transfer of license of the Big Falls Milldam Project No. 12449. The project is located on the Little Wolf River in Waupaca County, Wisconsin.

The applicants seek Commission approval to transfer the license for the Big Falls Milldam Project from the transferor to the transferee.

Applicants Contact: For transferor: Dwight Bowler, Wiscons8, LLC, 813 Jefferson Hill Road, Nassau, New York 12123, Phone: (518) 766-2753, Email: dbowler838@aol.com. Copy to: Joshua A. Sabo, Esq., 287 North Greenbush Road, Troy, New York 12180, Phone: (518) 286-9050, Email: jsabo@sabolaw.net

For transferee: Dwight Shanak, IOWAter Power Corporation, N3311 Sunrise Lane, Waupaca, Wisconsin 54981 Copy to: Robert W. Zimmerman, Esq., Mallery & Zimmerman, S.C., 500 Third St., Suite 800, P.O. Box 479, Wausau, Wisconsin 54402.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12449-014.

Dated: January 17, 2020.
Kimberly D. Bose,
Secretary.

[FR Doc. 2020-01181 Filed 1-23-20; 8:45 am]

BILLING CODE 6717-01-P